DEPARTMENT OF ENERGY

Federal Energy Regulatory Commission

[Project No. 14447-000]

L.S. Starrett Company; Notice of Application Tendered for Filing With the Commission and Soliciting Additional Study Requests

Take notice that the following hydroelectric application has been filed with the Commission and is available for public inspection.

a. Type of Application: Exemption from Licensing.

b. Project No.: P-14447-000.

c. Date filed: August 15, 2012.

d. Applicant: L.S. Starrett Company.

e. Name of Project: Crescent Street Dam Hydroelectric Project.

f. Location: On the Millers River, in the Town of Athol, Worcester County, Massachusetts. The project would not occupy any federal lands.

g. Filed Pursuant to: Public Utility Regulatory Policies Act of 1978, 16 U.S.C. 2705, 2708.

h. Applicant Contact: Steve Walsh, L.S. Starrett Company, 121 Crescent Street, Athol, MA 01331; (978) 249-3551 ext. 229.

i. FERC Contact: Tom Dean, (202) 502-6041 or thomas.dean@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 15, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The existing project consists of: (1) A 28-foot-high, 127-foot-long concrete and masonry dam with a 98-foot-long spillway topped with a 3-foot-high bascule gate; (2) a 4.5-acre impoundment with a normal water surface elevation of 541.3 feet National Geodetic Vertical Datum of 1929; (3) generation facilities on the right side of the dam that include: (a) An intake structure equipped with a 7-foot-high, 7-foot-wide head gate and a 14-foot-high, 17.5-feet-wide trashrack with 1.25-inch clear bar spacing; (b) a 25-foot-long, 7-foot-diameter penstock; (c) a 44-foot-long, 28-foot-wide powerhouse containing a 250 kilowatt (kW) turbine generating unit; (d) a 7-foot-diameter, 47-foot-long bypass outlet conduit equipped with a 7-foot-high, 7-foot-wide gate; (e) a 16-foot-wide, 4-foot-deep, 200-foot-long tailrace; and (f) three 180-foot-long, 600 volt transmission lines; (4) generation facilities on the left side of the dam that include: (a) An 18-foot-long weir equipped with a 6-foot-high, 6-foot-wide slide gate and a 12-foot-high, 13.5-foot-wide trashrack with ¾-inch clear bar spacing; (b) a 55-foot-long, 6-foot-diameter penstock; (c) a 37-foot-long, 37-foot-wide powerhouse containing a 198 kW turbine generating unit; (d) and a 14-foot-wide, 9-foot-deep, 100-foot-long tailrace (e) six 900-foot-long, 600 volt transmission lines; and (f) appurtenant facilities. The project would have an estimated annual generation of 1,729.2 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Massachusetts State Historic Preservation Officer (SHPO), as required by section 106 of the National Historic Preservation Act and the regulations of the Advisory Council on Historic Preservation, 36 CFR 800.4.

q. With this notice, we are designating L.S. Starrett as the Commission's non-federal representative for carrying out informal consultation, pursuant to section 7 of the Endangered Species Act and section 106 of the National Historic Preservation Act.

r. Procedural schedule: The application will be processed according to the following preliminary schedule. Revisions to the schedule will be made as appropriate (e.g., if there are no deficiencies and/or scoping is waived, the schedule would be shortened).

Issue Deficiency Letter | October 2012.
Issue Notice of Acceptance | December 2012.
Issue Scoping Document | January 2013.
Issue Notice ready for environmental analysis | March 2013.
Issue Notice of the availability of the EA | July 2013.

Dated: August 27, 2012.
Kimberly D. Bose,
Secretary.

[FR Doc. 2012-21657 Filed 8-31-12; 8:45 am]

BILLING CODE 6717-01-P